DEPARTMENT OF COMMERCE

International Trade Administration

[A-570-846]

Brake Rotors from the People's Republic of China: Notice of Extension of Time Limits for the Preliminary and Final Results of the Fourth New Shipper Antidumping Duty Review

AGENCY: Import Administration, International Trade Administration, Department of Commerce.

SUMMARY: On June 29, 2000, the two respondents in this proceeding agreed to waive the time limits in order that the Department of Commerce may conduct the fourth new shipper review concurrent with the third annual administrative review of the antidumping duty order on brake rotors from the People's Republic of China. Therefore, in accordance with 19 CFR 351.214(j)(3) and 351.213(h)(1), we intend to issue the preliminary results of the fourth new shipper review not later than 245 days after the last day of the anniversary month of the order and the final results 120 days after the date on which notice of the preliminary results are published in the Federal Register.

EFFECTIVE DATE: August 23, 2000.

FOR FURTHER INFORMATION CONTACT: Brian Smith or Brian Ledgerwood, Import Administration, International Trade Administration, U.S. Department of Commerce, 14th Street and Constitution Avenue, NW, Washington, DC 20230; telephone (202) 482-1766 or (202) 482-3836, respectively.

Applicable Statute and Regulations

Unless otherwise indicated, all citations to the Tariff Act of 1930, as amended (“the Act”), are references to the provisions effective January 1, 1995, the effective date of the amendments made to the Act by the Uruguay Round Agreements Act. In addition, unless otherwise indicated, all citations to the Department of Commerce (“the Department”) regulations are to 19 CFR part 351 (April 2000).

SUPPLEMENTARY INFORMATION: On June 2, 2000, in accordance with 19 CFR 351.214(d) and 351.213(b), the Department initiated the fourth new shipper review and third administrative review of the antidumping duty order on brake rotors from the People's Republic of China (“PRC”), respectively. (See 65 FR 35322 and 65 FR 35320, respectively.) On June 29, 2000, Hongfa Machinery (Dalian) Co., Ltd. (“Hongfa”) and Luoyang Haoxiang Brake Disc Factory (“Luoyang”) agreed to waive the time limits in order that the Department, pursuant to 19 CFR 351.214(j)(3), may conduct the fourth new shipper review concurrent with the third annual administrative review of this order for the period April 1, 1999 through March 31, 2000. Because the date which is 245 days after the last day of the anniversary month falls on a weekend, we intend to issue the preliminary results, in accordance with 19 CFR 351.214(j)(3) and 351.213(h)(1), on the following business day, January 2, 2001. We also intend to publish the final results 120 days after the date on which notice of the preliminary results is published in the Federal Register.

This notice is in accordance with section 751(a) of the Act (19 U.S.C. 1675(a)) and 19 CFR 351.214(d).

Dated: August 16, 2000.
Richard Moreland,
Deputy Assistant Secretary, Import Administration.

[FR Doc. 00-21558 Filed 8-22-00; 8:45 am]

BILLING CODE 3510-DS-P